FEDERAL COMMUNICATIONS COMMISSION

47 CFR Parts 1, 22, 24, 27, 30, 74, 80, 90, 95, and 101

[WT Docket No. 10-112; Report No. 3083]

Petitions for Reconsideration of Action in Rulemaking Proceeding

AGENCY: Federal Communications Commission.

ACTION: Petitions for reconsideration.

SUMMARY: Petitions for Reconsideration & Clarification (Petitions) have been filed in the Commission's rulemaking proceeding by Jeff Chalmers, on behalf of American Messaging Services, LLC; David Alban, on behalf of Sensus USA Inc. and Sensus Spectrum LLC; Kenneth E. Hardman, on behalf of Critical Messaging Association and Mark E. Crosby, on behalf of Enterprise Wireless Alliance.

DATES: Oppositions to the Petitions must be filed on or before February 12, 2018. Replies to an opposition must be filed on or before February 20, 2018.

ADDRESSES: Federal Communications Commission, 445 12th Street SW, Washington, DC 20554.

FOR FURTHER INFORMATION CONTACT: Joyce Jones, email: joyce.jones@fcc.gov; phone: (202) 418-1327.

SUPPLEMENTARY INFORMATION: This is a summary of the Commission's document, Report No. 3083, released January 18, 2018. The full texts of the Petitions are available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Wireless Radio Services, FCC 17-105, published at 82 FR 41530, September 1, 2017, in WT Docket No. 10-112. This document is being published pursuant to 47 CFR 1.429(e). See also 47 CFR 1.4(b)(1) and 1.429(f), (g).

Number of Petitions Filed: 4.

Federal Communications Commission.
Marlene H. Dortch,
Secretary.

[FR Doc. 2018-01407 Filed 1-25-18; 8:45 am]

BILLING CODE 6712-01-P